GENERAL SERVICES ADMINISTRATION

[Notice-MA-2021-04; Docket No. 2021-0002; Sequence No. 23]

Federal Travel Regulation (FTR); Relocation Allowances—Waiver of Certain Provisions of the FTR Chapter 302 for Official Relocation Travel to Locations in Mississippi, Louisiana, New York, and New Jersey Impacted by Hurricane Ida

AGENCY: Office of Government-Wide Policy (OGP), General Services Administration (GSA).

ACTION: Notice of GSA Bulletin FTR 22-02, Waiver of certain Federal Travel Regulation (FTR) provisions for official relocation travel to locations in Mississippi, Louisiana, New York, and New Jersey impacted by Hurricane Ida.

SUMMARY: GSA Bulletin FTR 22-02 informs Federal agencies that certain provisions of the FTR governing official relocation travel are temporarily waived for Mississippi, Louisiana, New York, and New Jersey locations impacted by Hurricane Ida. As a result of the storm damage caused by Hurricane Ida, agencies should consider delaying all non-essential relocations to the affected areas given the statutory 120-day maximum for Temporary Quarters Subsistence Expenses (TQSE). Due to the lasting effects of the storm damage to these affected areas, finding lodging facilities and/or adequate meals may be difficult, and distance involved may be great, resulting in increased cost for relocation per diem expenses.

DATES: Applicability Date: This notice is retroactively effective for official relocation travel performed on or after (a) August 28, 2021, the date of the Presidential Disaster Declaration EM-3569-MS, to locations in Mississippi, (b) August 29, 2021, the date of the Presidential Disaster Declaration DR-4611-LA, to the locations in Louisiana, (c) September 1, 2021, the date of the Presidential Disaster Declaration EM-3572-NY, to the locations in New York, and (d) September 1, 2021, the date of the Presidential Disaster Declaration EM-3573-NJ, to the locations in New Jersey, impacted by Hurricane Ida. The FTR Bulletin expires 180 days from the respective effective dates, unless extended or rescinded by this office.

FOR FURTHER INFORMATION CONTACT: Mr. Rick Miller, Senior Policy Analyst, Office of Government-wide Policy, Office of Asset and Transportation Management, at 202-501-3822 or travelpolicy@gsa.gov. Please cite Notice of GSA Bulletin FTR 22-02.

SUPPLEMENTARY INFORMATION:

Background

Federal agencies authorize relocation entitlements to those individuals listed at FTR § 302-1.1 and those assigned under the Government Employees Training Act (GETA) (5 U.S.C. Chapter 41) which must be used within one-year. Some agencies will authorize TQSE and a Househunting trip (HHT) to assist employees with temporary expenses when relocating to the new duty station. The FTR limits the location of where temporary lodging may occur, how long they may receive assistance, and at what per diem rate expenses are based. Hurricane Ida has affected locations in Mississippi, Louisiana, New York, and New Jersey which has resulted in various travel-related disruptions to relocating employees. Accordingly, this GSA Bulletin allows agencies to determine whether to implement waivers of time limits established by the FTR for completion of all aspects of relocation, temporary quarter's locations at the new duty station and per diem rates for TQSE, and per diem rates for HHTs.

GSA Bulletin FTR 22-02 can be viewed at https://www.gsa.gov/ftrbulletins.

Krystal J. Brumfield,
Associate Administrator, Office of Government-Wide Policy.

[FR Doc. 2021-19941 Filed 9-14-21; 8:45 am]

BILLING CODE P